EXECUTIVE OFFICE OF THE PRESIDENT

Office of National Drug Control Policy

Designation of Two Counties as High Intensity Drug Trafficking Areas

AGENCY: Office of National Drug Control Policy, Executive Office of the President.

ACTION: Notice of HIDTA Designations.

SUMMARY: The Director of the Office of National Drug Control Policy designated two additional counties as High Intensity Drug Trafficking Areas (HIDTA) pursuant to 21 U.S.C. 1706. The new counties are Austin and Walker Counties in Texas as part of the Houston HIDTA.

FOR FURTHER INFORMATION CONTACT: Questions regarding this notice should be directed to Michael K. Gottlieb, Associate Director, Programs Office, Office of National Drug Control Policy, Executive Office of the President, Washington, DC 20503; (202) 395-4868.

Dated: March 23, 2016.
Michael Passante,
Deputy General Counsel.

[FR Doc. 2016-09230 Filed 4-20-16; 8:45 am]

BILLING CODE 3280-F5-P